DEPARTMENT OF STATE

[Public Notice 8241]

Notice of Public Meeting on FY 2014 U.S. Refugee Admissions Program

There will be a meeting on the President's FY 2014 U.S. Refugee Admissions Program on Wednesday, May 15, 2013 from 2 p.m. to 4 p.m. The meeting will be held at the Department of State's Harry S. Truman Building's George C. Marshall Conference Room, 2201 C Street NW., Washington, DC 20520. The meeting's purpose is to hear the views of attendees on the appropriate size and scope of the FY 2014 U.S. Refugee Admissions Program.

Persons wishing to attend this meeting must notify the Bureau of Population, Refugees, and Migration at telephone (202) 453-9257 by 5 p.m. on Wednesday, May 8, 2013, to reserve a seat. Persons wishing to present written comments should submit them by 5 p.m. on Wednesday, May 8, 2013 via email to spruellda@state.gov or fax (202) 453-9393.

The use of any video or audio recording device, photographing device, or any other electronic or mechanical device designed for similar purposes is prohibited at this event.

If you have questions about the public meeting, please contact Delicia Spruell, PRM/Admissions Program Officer at (202) 453-9257. Information about the U.S. Refugee Admissions Program may be found at http://www.state.gov/g/prm/.

Dated: March 12, 2013.
David Robinson,
Principal Deputy Assistant Secretary, Bureau of Population, Refugees, and Migration, Department of State.

[FR Doc. 2013-06388 Filed 3-19-13; 8:45 am]

BILLING CODE 4710-33-P